DEPARTMENT OF TRANSPORTATION

Federal Aviation Administration

14 CFR Part 39

[Docket No. FAA-2021-0336; Project Identifier AD-2021-00293-Q; Amendment 39-21523; AD 2021-09-09]

RIN 2120-AA64

Airworthiness Directives; Uninsured United Parachute Technologies, LLC Parachutes

AGENCY: Federal Aviation Administration (FAA), DOT.

ACTION: Final rule; request for comments.

SUMMARY: The FAA is adopting a new airworthiness directive (AD) for certain Uninsured United Parachute Technologies, LLC (UPT) parachutes. This AD results from reserve pin covers (RPCs) catching on the parachute container flaps and preventing the reserve parachute from deploying. This AD requires modifying the RPC before the next parachute jump and replacing the RPC at the next reserve parachute packing. The FAA is issuing this AD to address the unsafe condition on these products.

DATES: This AD is effective May 7, 2021.

The Director of the Federal Register approved the incorporation by reference of certain publications listed in this AD as of May 7, 2021.

The FAA must receive comments on this AD by June 7, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For UPT service information identified in this final rule, contact Uninsured United Parachute Technologies, LLC, Engineering Department, 1645 Lexington Avenue, Deland, FL 32724; phone: (386) 736-7589; email: upt@uptvector.com; website: https://uptvector.com/product-service-bulletins/. You may view this service information at the FAA, Airworthiness Products Section, Operational Safety Branch, 901 Locust, Kansas City, MO 64106. For information on the availability of this material at the FAA, call (816) 329-4148. It is also available at https://www.regulations.gov by searching for and locating Docket No. FAA-2021-0336.

Examining the AD Docket

You may examine the AD docket at https://www.regulations.gov by searching for and locating Docket No. FAA-2021-0336; or in person at Docket Operations between 9 a.m. and 5 p.m., Monday through Friday, except Federal holidays. The AD docket contains this final rule, any comments received, and other information. The street address for the Docket Operations is listed above.

FOR FURTHER INFORMATION CONTACT: Samuel Kovitch, Aerospace Safety Engineer, Atlanta ACO Branch, FAA, 1701 Columbia Avenue, College Park, GA 30337; phone: (404) 474-5570; fax: (404) 474-5605; email: samuel.kovitch@faa.gov.

SUPPLEMENTARY INFORMATION:

Background

The FAA was notified by the Directorate General for Civil Aviation, which is the civil aviation authority for France, of an unsafe condition on certain UPT reserve parachute pin covers.

Subsequent analysis revealed that, between May 2013 and January 2021, the container was manufactured with a redesign that increased the length of the RPC, causing it to catch and prevent the reserve parachute from deploying. UPT determined the affected parachutes are UPT Vector 3 SE containers manufactured between May 1, 2013, and January 31, 2021, in any of the following sizes: V3SE-360-1, V3SE-360-2, V3SE-360-3, V3SE-361, V3SE-364, and V3SE-364-1. This condition, if not corrected, could cause failure of the reserve parachute to deploy when needed. The FAA is issuing this AD to address the unsafe condition on these products.

FAA's Determination

The FAA is issuing this AD because the agency has determined the unsafe condition described previously is likely to exist or develop in other products of the same type design.

Related Service Information Under 1 CFR Part 51

The FAA reviewed Uninsured United Parachute Technologies, LLC, INSTRUCT-064, Revision 1, dated February 10, 2021. This service information specifies procedures for modifying the bottom tuck tab of the RPC on the parachute container.

The FAA also reviewed Uninsured United Parachute Technologies, LLC, INSTRUCT-065, REV 0, dated February 12, 2021. This service information specifies procedures for replacing the RPC on the parachute container.

This service information is reasonably available because the interested parties have access to it through their normal course of business or by the means identified in ADDRESSES.

AD Requirements

This AD requires accomplishing the actions specified in the service information already described.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because failure of the reserve parachute to deploy when needed will lead to the parachutist freefalling to the surface without being slowed, resulting in serious injury or death. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0336 and Project Identifier AD-2021-00293-Q” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent Samuel Kovitch, Aerospace Safety Engineer, Atlanta ACO Branch, FAA, 1701 Columbia Avenue, College Park, GA 30337. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 86 parachute containers used in the United States.

The FAA estimates the following costs to comply with this AD:

Estimated Costs
Action | Labor cost | Parts cost | Cost per product | Cost on U.S. operators
Modify RPC | 1 work-hour × $85 per hour = $85 | Not applicable | $85 | $7,310
Replace RPC | 1 work-hour × $85 per hour = $85 | $28.50 | 113.50 | 9,761

The FAA has included all known costs in its cost estimate. According to the manufacturer, however, all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-09-09 Uninsured United Parachute Technologies, LLC: Amendment 39-21523; Docket No. FAA-2021-0336; Project Identifier AD-2021-00293-Q.

(a) Effective Date

This airworthiness directive (AD) is effective May 7, 2021.

(b) Affected ADs

None.

(c) Applicability

This AD applies to Uninsured United Parachute Technologies, LLC Vector 3 SE parachute containers approved under Technical Standard Order C23b, part number Vector SE, with a date of manufacture after April 30, 2013, and before February 1, 2021, in any of the following sizes: V3SE-360-1, V3SE-360-2, V3SE-360-3, V3SE-361, V3SE-364, and V3SE-364-1.

(d) Subject

Joint Aircraft System Component (JASC) Code: None.

(e) Unsafe Condition

This AD results from reserve pin covers (RPCs) catching on the parachute container flaps and preventing the reserve parachute from deploying. The FAA is issuing this AD to correct the length of RPCs that were designed and manufactured with too long of a flap. The unsafe condition, if not addressed, could result in failure of the reserve parachute to deploy when needed.

(f) Compliance

Comply with this AD within the compliance times specified, unless already done.

(g) Corrective Actions

(1) Before the next parachute jump after the effective date of this AD, modify the bottom tuck tab of the RPC by following the Procedure in Uninsured United Parachute Technologies, LLC, INSTRUCT-064, Revision 1, dated February 10, 2021. Before the next parachute jump after the effective date of this AD, you may do the RPC replacement required by paragraph (g)(2) of this AD in lieu of doing this modification.

(2) At the next reserve parachute packing after the effective date of this AD, replace the RPC by following the Procedure in Uninsured United Parachute Technologies, LLC, INSTRUCT-065, Revision 0, dated February 12, 2021.

(h) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information.

(2) Before using any approved AMOC, notify your appropriate principal inspector, or lacking a principal inspector, the manager of the local flight standards district office/certificate holding district office.

(i) Related Information

For more information about this AD, contact Samuel Kovitch, Aerospace Safety Engineer, Atlanta ACO Branch, FAA, 1701 Columbia Avenue, College Park, GA 30337; phone: (404) 474-5570; fax: (404) 474-5605; email: samuel.kovitch@faa.gov.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Uninsured United Parachute Technologies, LLC, INSTRUCT-064, Revision 1, dated February 10, 2021.

(ii) Uninsured United Parachute Technologies, LLC, INSTRUCT-065, Revision 0, dated February 12, 2021.

(3) For the service information identified in this AD, contact Uninsured United Parachute Technologies, LLC, Engineering Department, 1645 Lexington Avenue, Deland, FL 32724; phone: (386) 736-7589; email: upt@uptvector.com; website: https://uptvector.com/product-service-bulletins/.

(4) You may view this service information at FAA, Airworthiness Products Section, Operational Safety Branch, 901 Locust, Kansas City, MO 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on April 16, 2021.
Lance T. Gant,
Director, Compliance & Airworthiness Division, Aircraft Certification Service.

[FR Doc. 2021-08460 Filed 4-21-21; 8:45 am]

BILLING CODE 4910-13-P